DEPARTMENT OF THE INTERIOR

Fish and Wildlife Service

[FWS-R4-R-2011-N-170; 40136-1265-0000-S3]

Atchafalaya National Wildlife Refuge, LA; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Atchafalaya National Wildlife Refuge (NWR) in St. Martin and Iberville Parishes, Louisiana. In the final CCP, we describe how we will manage this refuge for the next 15 years.

ADDRESSES: You may obtain a copy of the CCP by writing to: Mr. Daniel Breaux, Southeast Louisiana National Wildlife Refuge Complex, Bayou Lacombe Centre, 61389 Highway 434, Lacombe, LA 70445. Alternatively, you may download the document from our Internet Site: http://southeast.fws.gov/planning/ under “Final Documents.”

FOR FURTHER INFORMATION CONTACT: Mr. Daniel Breaux, at 985/882-2030 (telephone), 985/882-9133 (fax), or Daniel_breaux@fws.gov (email).

SUPPLEMENTARY INFORMATION:

Introduction

With this notice, we finalize the CCP process for Atchafalaya NWR. We started this process through a notice in the Federal Register on January 9, 2009 (74 FR 915). For more about the refuge, see that notice.

Atchafalaya NWR is one of eight refuges managed as part of the Southeast Louisiana National Wildlife Refuge Complex (Complex). Atchafalaya NWR is located in the lower Atchafalaya Basin Floodway System. Atchafalaya NWR is bounded on the north by U.S. Highway 190, on the south by Interstate 10, on the west by the Atchafalaya River, and on the east by the East Atchafalaya Basin Protection Levee.

Atchafalaya NWR was established in 1986, when 15,255 acres were purchased from the Iberville Land Company, as directed by Public Law 98-548. The Louisiana Department of Wildlife and Fisheries (LDWF) and the U.S. Army Corps of Engineers (USACE) have also purchased fee title land adjacent to and within the Atchafalaya NWR, which brings the current acreage to approximately 44,000. The USACE has authority to purchase additional lands within the Atchafalaya Basin Floodway System.

Approximately 12 percent of the refuge is inundated open water, with isolated cypress trees and willow stands. Bottomland hardwood forest is the primary habitat.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on May 24, 2011 (76 FR 30190). A news release was sent out to four local, state, and regional newspapers, six online media outlets, and two local radio networks. Copies of the Draft CCP/EA were posted at refuge headquarters and on the Service's Internet Web site and more than 100 copies were distributed to local landowners; the general public; and local, state, and federal agencies. Respondents representing the following submitted comments: LDWF; Louisiana Department of Culture, Recreation, and Tourism; Jena Band of Choctaw Indians; National Park Service; Audubon Society; Friends of the Atchafalaya; The Nature Conservancy; Gulf Restoration Network; Atchafalaya Basinkeeper; Louisiana Crawfish Producers Association—West; Sierra Club—Delta Chapter; Lower Mississippi Riverkeeper; Louisiana Environmental Action Network; and local citizens.

Selected Alternative

The Draft CCP/EA identified and evaluated three alternatives for managing the refuge over the next 15 years. After considering the comments we received and based on the professional judgment of the planning team, we selected Alternative B for implementation. Alternative B best signifies the vision, goals, and purposes of the refuge. Under Alternative B, emphasis will be on restoring and improving the resources needed for wildlife and habitat management and providing appropriate and compatible wildlife-dependent public use opportunities, while addressing key issues and refuge mandates.

The compatibility determinations for (1) Wildlife observation/photography; (2) recreational fishing; (3) recreational hunting; (4) environmental education and interpretation; (5) walking, hiking, and jogging; (6) forest management; (7) scientific research; (8) kayaking, canoeing, and paddling; (9) all-terrain vehicle use; (10) bicycling; and (11) boating are also available within the CCP.

Alternative B will focus on augmenting wildlife and habitat management to identify, conserve, and restore populations of native fish and wildlife species, with an emphasis on migratory birds and threatened and endangered species. This objective will partially be accomplished by increased monitoring of waterfowl, other migratory and resident birds, and endemic species, in order to assess and adapt management strategies and actions. Additionally, information gaps will be addressed by the initiation of baseline surveying, periodic monitoring, and ultimately adding adaptive habitat management.

Habitat management programs for impoundments, greentree reservoir, wetlands, open waters, forested habitats, scrub/shrub habitat, grasslands, and open lands will be reevaluated, and step-down management plans will be developed to meet the foraging, nesting, and breeding requirements of priority species. Additionally, monitoring and adaptive habitat management will be implemented to potentially counteract the impacts associated with long-term climate change and sea level rise.

The control of invasive and exotic plant species will be more aggressively managed by implementing a management plan, completing a baseline inventory, supporting research, and controlling with strategic mechanical and chemical means. Additionally, the Complex will utilize this management plan and monitoring to enhance efforts to control/remove invasive, exotic, and/or nuisance wildlife on the refuge.

Alternative B will enhance our visitor services opportunities by: (1) Improving the quality of fishing opportunities; (2) implementing an environmental education program component that utilizes volunteers and local schools as partners; (3) enhancing wildlife viewing and photography opportunities by implementing blinds, a swamp trail boardwalk, and additional observational areas; (4) developing and implementing a visitor services management plan, (5) working with partners to develop a Complex visitor center, including a law enforcement office and maintenance facility with an attached visitor contact station; and (6) enhancing personal interpretive and outreach opportunities. Volunteer programs and friends groups also would be expanded to enhance all aspects of management and to increase resource availability.

In addition to the enforcement of all Federal and State laws to protect archaeological and historical sites, we will identify and develop a plan to protect all known sites. The development of an onsite office for law enforcement officers will not only better provide security for these resources, but will also ensure visitor safety and public compliance with refuge regulations.

Land acquisitions within the approved acquisition boundary will be based on the importance of the habitat for wildlife, management, and access. Alternative B also will develop a preliminary land protection proposal to achieve a congressionally authorized refuge boundary expansion of approximately 17,000 acres within the Atchafalaya Basin Floodplain to improve buffer conditions, contribute to biological objectives, close gaps between existing tracts, and improve public access. Administration plans will stress the need for increased maintenance of existing infrastructure and construction of new facilities. Funding for new construction projects will be balanced between habitat management and public use needs. Additional staff will be required to accomplish the goals of this alternative. Personnel priorities will include adding a visitor services specialist, assistant manager, biological technician, forestry technician, maintenance worker, and law enforcement officer to the staff. The increased budget and staffing levels will better enable us to meet the obligations of wildlife stewardship, habitat management, and public use.

Authority

This notice is published under the authority of the National Wildlife Refuge System Improvement Act of 1997, Public Law 105-57.

Dated: September 27, 2011.
Mark J. Musaus,
Acting Regional Director.

[FR Doc. 2012-7403 Filed 3-27-12; 8:45 am]

BILLING CODE 4310-55-P